DEPARTMENT OF STATE

[Public Notice: 10328]

In the Matter of the Designation of ISIS-West Africa (ISIS-WA) Also Known as ISIS West Africa Also Known as ISIS West Africa Province Also Known as Islamic State of Iraq and Syria West Africa Province Also Known as Islamic State of Iraq and the Levant-West Africa (ISIL-WA) Also Known as Islamic State West Africa Province (ISWAP) as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to ISIS-West Africa (ISIS-WA), also known as ISIS West Africa, also known as ISIS West Africa Province, also known as Islamic State of Iraq and Syria West Africa Province, also known as Islamic State of Iraq and the Levant-West Africa (ISIL-WA), also known as Islamic State West Africa Province (ISWAP).

Therefore, I hereby designate the aforementioned organization and its aliases as a foreign terrorist organization pursuant to section 219 of the INA.

This determination shall be published in the Federal Register.

Dated: September 13, 2017.
Rex W. Tillerson,
Secretary of State.

Editorial Note: This document was received by the Office of the Federal Register on February 22, 2018.

[FR Doc. 2018-03995 Filed 2-27-18; 8:45 am]

BILLING CODE 4710-AD-P